DEPARTMENT OF THE INTERIOR

National Park Service

[NPS-WASO-NRNHL-DTS#-39617; PPWOCRADI0, PCU00RP14.R50000]

National Register of Historic Places; Notification of Pending Nominations and Related Actions

AGENCY: National Park Service, Interior.

ACTION: Notice.

SUMMARY: The National Park Service is soliciting electronic comments on the significance of properties nominated before February 22, 2025, for listing or related actions in the National Register of Historic Places.

DATES: Comments should be submitted electronically by April 1, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 22, 2025. Pursuant to § 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

CALIFORNIA

Los Angeles County

Bob Hope Patriotic Hall, 1816 S. Figueroa Street, Los Angeles, SG100011598

Riverside County

Sandcliff, 1800-1876 S. Baron Road and 1805-1859 Sandcliff Road, Palm Springs, SG100011596

San Diego County

CABRILLO (Ferry), Broadway Pier, 990 N. Harbor Drive, San Diego, SG100011611

SILVERGATE (Ferry), Fifth Avenue Landing, 600 Convention Way, San Diego, SG100011612

COLORADO

Costilla County

Las Feminilas Concilio #6, 23889 County Road J.2, San Francisco, SG100011601

Denver County

La Vista Motel, 5500 East Colfax Avenue, Denver, SG100011602

El Paso County

Dutzi, Howard & Ruth, House, 4300 Ridgecrest Drive, Colorado Springs, SG100011600

CONNECTICUT

Hartford County

Fuller Brush Company Factory Complex, 3580 Main Street, Hartford, SG100011608

GEORGIA

Fulton County

Bolton Lodge No. 416, 2324 Marietta Road Northwest, Atlanta, SG100011607

KANSAS

Linn County

Brook, Hugh M. and Rachel A., House, 604 East Kansas Avenue, Blue Mound, SG100011615

Logan County

Bertrand House, S08, T14, R33, Acres 636.3, All Section Less RD R/W, Oakley, SG100011614

NEBRASKA

Rock County

Ash Creek Ranch Barn, 889th Road, Newport, SG100011613

NEW JERSEY

Passaic County

Van Houten-Van Allen House, 490 Totowa Road, Borough of Totowa, SG100011599

PENNSYLVANIA

Allegheny County

Gallagher-Kieffer House, 234 North Dithridge Street, Pittsburgh, SG100011617

Northumberland County

Sixth Ward School, (Educational Resources of Pennsylvania MPS), 700 North Fourth Street, Sunbury, MP100011609

RHODE ISLAND

Kent County

Artic Mill Historic District, 12, 15 21, 33, and 40 Factory Street, West Warwick, SG100011595

TENNESSEE

Crockett County

Central High School, 142 Conley Road, Alamo, SG100011616

UTAH

Salt Lake County

Mountair Acres Subdivision Historic District, Roughly bounded by Imperial Street on the north, 3150 South on the east, Highland Drive on the south, and 3010 South on the west, Millcreek, SG100011597

VIRGINIA

Alexandria INDEPENDENT CITY

Ivy Hill Cemetery, 2823 King Street, Alexandria, SG100011604

Danville INDEPENDENT CITY

Cedarbrook Elementary School, 439 Cedarbrook Drive, Danville, SG100011605

Shenandoah County

Triplett High and Graded School, 6044 Main Street, Mount Jackson, SG100011606

WISCONSIN

Rock County

Adams Elementary School, 1138 East Memorial Drive, Jamesville, SG100011592

Roosevelt Elementary School, 316 South Ringold Street, Janesville, SG100011593

Washington Elementary School, 811 North Pine Street, Janesville, SG100011594

A request for removal has been made for the following resource(s):

FLORIDA

Pinellas County

Rothman, Maurice and Thelma, House, 1018 Park St., N., Saint Petersburg, OT13000034

Authority: Section 60.13 of 36 CFR part 60.

Sherry A. Frear,
Chief, National Register of Historic Places/National Historic Landmarks Program.

[FR Doc. 2025-04260 Filed 3-14-25; 8:45 am]

BILLING CODE 4312-52-P